FEDERAL COMMUNICATIONS COMMISSION

47 CFR Part 73

[MB Docket No. 24-152; RM-11982; DA 24-558; FR ID 226621]

Television Broadcasting Services Boise, Idaho

AGENCY: Federal Communications Commission.

ACTION: Proposed rule.

SUMMARY: The Video Division, Media Bureau (Bureau), has before it a petition for rulemaking filed May 10, 2024, by King Broadcasting Company (Petitioner), the licensee of KTVB, channel 7, Boise, Idaho (Station or KTVB). The Petitioner requests the substitution of channel 23 for channel 7 at Boise, Idaho (Boise), in the Table of TV Allotments.

DATES: Comments must be filed on or before July 24, 2024 and reply comments on or before August 8, 2024.

ADDRESSES: Federal Communications Commission, Office of the Secretary, 45 L Street NE, Washington, DC 20554. In addition to filing comments with the FCC, interested parties should serve counsel for the Petitioner as follows: Michael Beder, Esq., Associate General Counsel, TEGNA Inc., 8350 Broad Street, Suite 2000, Tysons, Virginia 22102.

FOR FURTHER INFORMATION CONTACT: Joyce Bernstein, Media Bureau, at (202) 418-1647; or Joyce Bernstein, Media Bureau, at Joyce.Bernstein@fcc.gov.

SUPPLEMENTARY INFORMATION: In support of its channel substitution request, the Petitioner states that its proposed channel substitution would serve the public interest by resolving persistent reception complaints it has received from viewers, and substantially improve the Boise community's access to the Station's local news, emergency, NBC network, and other programming. The Petitioner states that the Commission has recognized that VHF channels have certain characteristics that pose challenges for their use in providing digital television service, including propagation characteristics that allow undesired signals and noise to be receivable at relatively far distances. Additionally, the Petitioner notes that the Commission has observed “large variability in the performance (especially intrinsic gain) of indoor antennas available to consumers, with most antennas receiving fairly well at UHF and the substantial majority not so well to very poor at high-VHF.” An engineering statement provided by the Petitioner confirms that the proposed channel 23 contour would provide full principal community coverage to Boise and would not cause impermissible interference to any station. In addition, the proposed channel 23 facility will not result in any loss of service to existing viewers within the Station's noise limited service contour (NLSC).

We believe that the Petitioner's channel substitution proposal for KTVB warrants consideration. Channel 23 can be substituted for channel 7 at Boise as proposed, in compliance with the principal community coverage requirements of section 73.618(a) of the Commission's rules (rules), at coordinates 43-45′-15.6″ N and 116-05′-59.4″ W. In addition, we find that this channel change meets the technical requirements set forth in section 73.622(a) of the rules. The proposal would not result in loss of service to any viewers within the Station's existing NLSC.

This is a synopsis of the Commission's Notice of Proposed Rulemaking, MB Docket No. 24-152; RM-11982; DA 24-558, adopted June 13, 2024, and released June 13, 2024. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in § 1.1204(a) of the Commission's rules, 47 CFR 1.1204(a).

See Sections 1.415 and 1.420 of the Commission's rules for information regarding the proper filing procedures for comments, 47 CFR 1.415 and 1.420.

Providing Accountability Through Transparency Act: The Providing Accountability Through Transparency Act, Public Law 118-9, requires each agency, in providing notice of a rulemaking, to post online a brief plain-language summary of the proposed rule. The required summary of this Notice of Proposed Rulemaking/Further Notice of Proposed Rulemaking is available at https://www.fcc.gov/proposed-rulemakings.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, 339.

2. In § 73.622, in the table in paragraph (j), under Idaho, amend by revising the entry for Boise to read as follows:

§ 73.622 Digital television table of allotments.

* * * * *

(j) * * *

Community | Channel No.
* * * * *
Idaho
* * * * *
Boise | 15, 20, 21, 23
* * * * *

* * * * *

[FR Doc. 2024-13692 Filed 6-21-24; 8:45 am]

BILLING CODE 6712-01-P